DEPARTMENT OF THE TREASURY

Internal Revenue Service

Open Meeting of the Forms and Publications Issue Committee of the Taxpayer Advocacy Panel

AGENCY: Internal Revenue Service (IRS), Treasury.

ACTION: Notice of meeting.

SUMMARY: An open meeting of the IRS Forms and Publications Issue Committee of the Taxpayer Advocacy Panel will be conducted. The Taxpayer Advocacy Panel is soliciting public comments, ideas and suggestions on improving customer service at the Internal Revenue Service.

DATES: The meeting will be held Wednesday, March 4, 2009.

FOR FURTHER INFORMATION CONTACT: Marianne Ayala at 1-888-912-1227 or 954-423-7978.

SUPPLEMENTARY INFORMATION: Notice is hereby given pursuant to section 10(a)(2) of the Federal Advisory Committee Act, 5 U.S.C. App. (1988) that an open meeting of the IRS Forms and Publications Issue Committee of the Taxpayer Advocacy Panel will be held Wednesday, March 4, 2009, at Noon, Eastern Time. If you would like to have the TAP consider a written statement, please call 1-888-912-1227 or 954-423-7978, or write Marianne Ayala, TAP Office, 1000 South Pine Island Road, Suite 340, Plantation, FL 33324. Ms. Ayala can be reached at 1-888-912-1227 or 954-423-7978, or you can post comments to the Web site: http://www.improveirs.org.

The agenda will include: Various IRS issues.

Dated: January 13, 2009.
Shawn F. Collins,
Acting Director, Taxpayer Advocacy Panel.

[FR Doc. E9-1292 Filed 1-22-09; 8:45 am]

BILLING CODE 4830-01-P